DEPARTMENT OF HEALTH AND HUMAN SERVICES

Centers for Disease Control and Prevention

Reorganization of the Office of Readiness and Response

AGENCY: Centers for Disease Control and Prevention (CDC), the Department of Health and Human Services (HHS).

ACTION: Notice.

SUMMARY: CDC has modified its structure. This notice announces the reorganization of the Office of Readiness and Response (ORR). ORR reorganized to improve rapid response to disease outbreaks and public health emergencies within the United States and around the world. It is critical for CDC's internal emergency response structure and readiness capabilities align with the changing public health landscape in order to best protect populations that are at increased risk of death, disability, and disease before, during, and after responses.

DATES: This reorganization was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the Office of Readiness and Response, Centers for Disease Control and Prevention. Specifically, the changes are as follows:

I. Under Part C, Section C-B, Organization and Functions, insert the following:

Office of Readiness and Response (CAD)

Office of the Director (CAD1)

Information Resources Office (CAD12)

Office of Policy, Planning, and Communications (CAD13)

Office of Science and Laboratory Readiness (CAD14)

Management Resources Office (CAD15)

Division of State and Local Readiness (CADB)

Office of the Director (CADB1)

Field Assignments Branch (CADBB)

Grants Management and Fiscal Strategy Branch (CADBC)

Jurisdictional Readiness and Response Support Branch (CADBD)

Capacity Building and Technical Assistance Development Branch (CADBE)

Division of Regulatory Science and Compliance (CADC)

Office of the Director (CADC1)

Federal Select Agent Program Operations Branch (CADCB)

Import Permit Program Operations Branch (CADCC)

Innovation and Information Technology Branch (CADCD)

Biosafety, Science, Training and Expertise Branch (CADCE)

Division of Emergency Operations (CADD)

Office of the Director (CADD1)

Resource Support Branch (CADDB)

Operations Branch (CADDC)

Plans, Exercise, and Evaluation Branch (CADDD)

Emergency Management Training and Capacity Development Branch (CADDE)

Division of Readiness and Response Science (CADE)

Office of the Director (CADE1)

Community-Based Solutions and Health Equity Branch (CADEB)

Response Analytics, Decision Support, and Surveillance Branch (CADEC)

Public Health Readiness and Response Evaluation Branch (CADED)

Center for Forecasting and Outbreak Analytics (CADL)

Office of the Director (CADL1)

Office of Policy and Communications (CADL12)

Office of Management Services (CADL13)

Inform Division (CADLB)

Office of the Director (CADLB1)

Predict Division (CADLC)

Office of the Director (CADLC1)

Real Time Monitoring Branch (CADLCB)

Analytics Response Branch (CADLCC)

Technology and Innovation Division (CADLD)

Office of the Director (CADLD1)

Technology Branch (CADLDB)

Innovate Branch (CADLDC)

II. Under Part C, Section C-B, Organization and Functions, retitle the following organizational units:

Office of Science and Public Health Practice (CAD14) to Office of Science and Laboratory Readiness (CAD14)

Division of Select Agents and Toxins (CADC) to Division of Regulatory Science and Compliance (CADC)

Field Select Agent Branch (CADCB) to the Federal Select Agent Program Operations Branch (CADCB)

III. Under Part C, Section C-B, Organization and Functions, delete the mission or functional statements for and replace with the following:

Office of Readiness and Response (CAD). The mission of the Office of Readiness and Response (ORR) is to lead, promote, and integrate programs, science, data, communications, and policies that enable CDC to respond to public health threats at home and abroad. The ORR Director is accountable and vested with authority for positioning CDC to successfully respond to all public health threats, including through preparedness activities that maintain a constant readiness to respond. ORR supports the following functions: (1) serves as the principal source of advice and expertise for the CDC Director on issues related to emergency readiness and response domestically and globally; (2) assists the CDC Director in formulating and communicating readiness and response strategic initiatives and policies; (3) informs and represents the CDC Director on key emergency readiness and response issues; (4) develops overall strategic direction, provides leadership, and supports implementation of emergency readiness and response priorities across the agency's workforce, data and laboratory systems, science, policies, and programs; (5) leverages cross-agency expertise to inform U.S. Government readiness and response plans and aligns agency emergency readiness and response strategies to these plans; (6) advises CDC senior leadership on resource allocation decisions that have readiness and response implications; (7) identifies emergency readiness and response issues of public health importance and facilitates and promotes cross-agency, cross-United States Government interagency collaboration, innovation, and initiatives to address them, including developing shared goals and monitoring progress and accomplishments; (8) enhances robust connections, cooperation, and collaboration through partnerships across multiple emergency readiness and response sectors (e.g., government, professional organizations, industry, academia), domestically and globally; (9) upholds integrity, transparency, and excellence in public health science and practice related to emergency readiness and response; (10) continually evaluates agency-wide emergency readiness and response effectiveness and efficiency, and recommends and implements adjustments based on findings; (11) promotes an environment that increases synergies and efficiencies and reduces duplication within CDC's emergency readiness and response programs; (12) provides overall strategic direction and leadership for emergency operations, forecasting, and outbreak analytics (e.g., surveillance, modeling, analytics); (13) coordinates strategic direction and leadership for partner funding and technical assistance for readiness and response; (14) leads cross-agency readiness and medical countermeasure (MCM) efforts, in coordination with other HHS operating and staff divisions and their constituent agencies; (15) maintains an Office of the Director (OD) to provide oversight and support for crosscutting functions, including but not limited to management and operations, policy, communication, health equity, and science, (16) guides and supports public health emergency readiness and response activities both within the Emergency Operations Center (EOC) and, as appropriate, CDC Centers, Institute, and Offices (CIOs); and (17) provides staff and scientific expertise, including through the EOC, for public health emergency responses and exercises.

Office of the Director (CAD1). (1) provides overall leadership, oversight, and guidance for all ORR programs; (2) oversees the development of ORR policy, communication, long-range plans, and programs, (3) leads the implementation and enforcement of overarching statutory and regulatory compliance responsibilities, policies and guidelines developed by Federal agencies, HHS, and CDC Staff Offices, as they relate to public health; emergency preparedness, readiness, and response; select agents and toxins; and poliovirus (PV) containment; (4) manages ORR preparedness, readiness, and response activities; (5) coordinates program activities with other CDC components, other Federal, state, and local government agencies, and private sector groups; (6) provides leadership for the coordination of technical assistance to other countries and international organizations in establishing and implementing preparedness, readiness, and response programs; (7) provides leadership, direction, coordination and evaluation of science and health-related activities for priority programs and preparedness, readiness, and emergency response agenda(s); (8) provides executive coordination for ORR research programs and science policies; (9) leads cross-agency readiness and MCM efforts and coordination; (10) maintains liaisons with other Federal, state, and local agencies, institutions, and organizations; (11) coordinates ORR public health science efforts to protect the public's health; (12) develops capacity within the states to integrate new and existing emergency preparedness, readiness, and response principles into their operational and programmatic activities; (13) utilizes best practices to collect, analyze, and interpret data and disseminate scientific information to enable internal and external partners to make actionable decisions; (14) integrates science, data analytics, and visualization into science products; (15) coordinates ORR involvement in CDC public health ethics activities; (16) represents ORR on various CDC scientific committees, work groups, and taskforces; (17) provides leadership and guidance in the development and implementation of goals, objectives, priorities, policies, program planning, management and operations of all general activities within ORR; (18) oversees, manages, directs, coordinates, and evaluates all ORR management and operations activities including human resources, intramural and extramural funding, space, budgeting and other related activities; (19) coordinates with all ORR offices and divisions in determining and interpreting operating policy and in ensuring their respective management input is included in specific program activity plans (20) provides overall issues management, health policy and partnership development direction to the ORR offices and divisions; (21) provides and directs overall internal and external communication strategies for the ORR; (22) directs and coordinates ORR activities in support of the Department's Equal Employment Opportunity program, diversity enhancement and employee professional development opportunities; and (23) reviews the effectiveness and efficiency of all administration and operations of ORR programs.

Information Resources Office (CAD12). (1) provides expert consultation in application development, information science, and technology to efficiently use resources; (2) provides information technology (IT) application development for ORR OD, center, and divisions; (3) reports all IT project costs, schedules, performances, and risks; (4) performs technical evaluation and integrated baseline reviews of all information systems' products and services prior to procurement to ensure software purchases align with ORR strategy; (5) coordinates all enterprise-wide IT security policies and procedures with the Office of the Chief Information Officer; (6) ensures operations are in accordance with CDC Capital Planning and Investment Control guidelines; (7) ensures adherence to CDC enterprise architecture policies, guidelines, and standards; (8) ensures coordination of data harmonization and systems interoperability within ORR and facilitates linkage to related CDC-wide strategies; (9) coordinates with ORR offices, center, and divisions to determine IT needs and to develop strategic and action plans; and (10) provides leadership in ORR's Information Resource Governance Committee and coordination with CDC's IT and Data Governance.

Office of Policy, Planning, and Communications (CAD13). (1) serves as liaison with CDC/Immediate Office of the Director (IOD) Offices and other CIO policy offices, other government agencies, and external partners on policy, program, communications, legislative, and budgetary issues related to ORR offices, center, and divisions; (2) provides consultation, support and service to ORR's offices, center, and divisions for policy, planning, evaluation, and communications; (3) leads annual ORR budget formulation and development of appropriations materials; (4) provides expertise, guidance, coordination, and guidance for strategic planning, performance measurement and communications, including health literacy, communications clearance, plain language implementation, 508 compliance, and social marketing programs, in collaboration with CDC/IOD and ORR OD, center, and division staff; (5) oversees and coordinates ORR accountability activities, including Government Accountability Office and Office of the Inspector General engagements and Freedom of Information Act audits and reviews; (6) develops and manages policy, program, and communication materials for stakeholders and partnership activities, including with governmental, non-governmental and private sector organizations; (7) serves as ORR communications clearance office for health communication campaigns and products; (8) maintains liaison with CDC/Washington and the Office of Appropriations concerning congressional matters including appropriations, legislative bill tracking, legislative requests for technical assistance, testimony for hearings, congressional inquiries, etc.; (9) oversees the preparation and routing of controlled correspondence, reviews clearance processes, and other issues management related materials; (10) assists divisions in the development and clearance of Federal Register Notices, rulemaking, and other documents for public comment; (11) develops and implements all proactive media outreach and reactive media responses for ORR; (12) serves as liaison to key offices for obtaining CDC and HHS traditional and social media clearance on products/activities; (13) coordinates CDC and ORR brand management, policy guidance, and governance of ORR content on digital channels and websites per HHS and CDC policy for the use of communication platforms; (14) leads, coordinates and provides strategic oversight of ORR's health communication and marketing practice, research, evaluation, and science; and (15) collects/analyzes/evaluates user data/metrics from communication channels and technologies to assess system performance, usability, accessibility, usefulness and impact of key messages.

Office of Science and Laboratory Readiness (CAD14). (1) engages and collaborates with ORR office, center, and division Associate Directors for Science and staff and other CDC CIOs to develop and maintain cross-cutting scientific partnerships that advance science, ensure mutual awareness of activities, and promote scientific capability, capacity and quality within ORR; (2) fosters opportunities to support CDC's mission in science and laboratory readiness through partnerships across government, non-profit organizations, and businesses; (3) fosters innovation and strategic foresight in science and laboratory readiness to mitigate risks, address current and future gaps, and inform partnerships and investments; (4) collaborates on and supports the creation of knowledge to advance public health emergency preparedness, readiness, and response, and recovery policy and practice; (5) provides technical assistance and scientific clearance for products submitted to ORR; (6) provides oversight and direction for the Board of Scientific Counselors by ensuring Federal Advisory Committee Act compliance and assuring the Board provides advice and guidance on preparedness, readiness, and response activities conducted by CDC and ORR; (7) monitors and maintains ORR compliance with the statutes, regulations, and policies governing the conduct of science by the Federal Government, including but not limited to, protecting the rights and welfare of humans in research, ensuring compliance with Paperwork Reduction Act, and providing guidance to protect individuals' privacy and confidentiality; and (8) develops and maintains the ORR clearance policy and performs scientific review and clearance of ORR products to ensure the quality of publications.

Management Resources Office (CAD15). (1) provides leadership and guidance for ORR's management of business operations; (2) oversees, manages, directs, coordinates, and evaluates all ORR management and operations activities; (3) coordinates and provides oversight to ORR's overall extramural strategy for contracts, grants, cooperative agreements, and reimbursable agreements; (4) develops and implements all ORR-wide administrative policies, procedures, and operations; (5) conducts management and organizational analyses to review the effectiveness and efficiency of all management and administrative operations of ORR programs and translates these into quality controls for improvement; (6) provides leadership for and assessment of all administrative management activities to assure coordination for all management and program matters, such as coordinating risk management and continuity of operations activities (COOP); (7) provides overall programmatic direction for planning and management oversight of allocated resources, human resource management and general administrative support; (8) provides and coordinates ORR-wide administrative, management, and support services in the areas of fiscal management, personnel, travel, procurement, facility management, and other administrative services; (9) develops and directs employee engagement programs; (10) analyzes workforce, succession, strategic planning systems, and resources on an ongoing basis; and (11) directs and coordinates activities in support of the diversity, equity, inclusion and accessibility integration into ORR activities and employee training and professional development opportunities.

Division of State and Local Readiness (CADB). (1) provides program support, funding, technical assistance, guidance, technical integration, and capacity building of preparedness planning across public health, healthcare, and emergency management sectors; (2) provides fiscal oversight to state, tribal, local, and territorial (STLT) public health department Cooperative Agreement recipients for the development, monitoring, and evaluation of public health capabilities, plans, infrastructure, and systems to prepare for and respond to terrorism, outbreaks of disease, natural disasters, and other public health emergencies; and (3) provides staff and scientific expertise, including through the EOC, for public health emergency responses and exercises.

Office of the Director (CADB1). (1) provides national leadership, strategic direction, and guidance that supports and advances the work of STLT public health emergency preparedness and response programs; (2) coordinates the development of guidelines and standards for programmatic materials within the division to provide technical assistance and program planning at the STLT level; (3) represents and communicates the interests and needs of the STLT jurisdictions on state and local preparedness and response issues; (4) develops and ensures effective partnerships with national stakeholders and preparedness and response partners; (5) provides oversight and management of division budgets, including contracts and awards; (6) manages the IT strategy and infrastructure to support division and recipient programmatic, evaluation, and fiscal activities; (7) addresses key internal and external policy and communications issues related to STLT public health preparedness and response; and (8) supports and advances the science and data analysis work of the division.

Field Assignments Branch (CADBB). (1) advances nationwide preparedness efforts through strategic placement of CDC field staff to support STLT public health agencies; (2) provides input to the development and implementation of field-based science initiatives and strategies; (3) provides situational awareness to CDC leadership when activated for public health responses; (4) provides consultation and technical assistance to STLT health departments in developing, implementing and evaluating activities in support of CDC recommendations and the host site; (5) provides direct support for public health preparedness and epidemiologic capacity at the STLT levels; (6) participates in the development of national preparedness and response policies and guidelines for public health emergencies and facilitates the transfer of guidelines into clinical and public health practice; (7) serves as liaisons to CDC to assist STLT partners in linking with proper resources, contacts and obtaining technical assistance; (8) provides technical supervision and support for the CDC field staff and trainees as appropriate; (9) provides input into the development of branch and division policy, priorities, and operational procedures; (10) analyzes technical and epidemiologic information to present at national and international scientific meetings; (11) publishes programmatic, surveillance, and epidemiologic information in collaboration with host agencies; (12) develops and implements a comprehensive training and field placement program for entry-level public health preparedness and response professionals (Preparedness Field Assignee Program); and (13) serves as a response resource for local, regional, national, and international public health emergencies.

Office of the Director (CADC1). (1) manages day-to-day operations of the division; (2) provides scientific leadership and consultation in laboratory biosafety and biosecurity involving select agents and toxins and other infectious agents; (3) supports the functional teams in the Office of the Director; (4) plans for and implements sound communications efforts in order to effectively and strategically inform and influence key internal and external partners regarding the program; (5) provides strategic planning, facilitating oversight studies of Division of Regulatory Science and Compliance (DRSC), regulatory and policy matters related to select agent and import permit programs, and executes compliance actions; including, notification of some matters to the HHSOffice of Inspector General; (6) develops and maintains professional relationships and collaborates with internal (CDC CIOs) and external partners (interagency partners, World Health Organization (WHO) on matters involving laboratory biosafety and biosecurity of select agents and toxins and other infectious agents (e.g., PV); (7) manages personnel actions, travel, purchases as well as budget planning and execution, contracts, and interagency agreement support for the division; (8) minimizes the risk of PV release through effective implementation and oversight of the global PV containment plan in the United States; (9) provides leadership in developing and executing a national PV containment program; (10) plans, establishes, and launches the national survey and maintains the national inventory of PV materials; (11) prepares and contributes to the annual national reports on PV containment and eradication; (12) ensures U.S. facilities transfer, inactivate or destroy PV materials appropriately, as needed; (13) ensures containment measures are implemented for facilities retaining PV, according to WHO's Global Action Plan; (14) develops and publishes PV containment guidance and policies to U.S. containment requirements; (15) works with internal and external partners to establish science-based recommendations for PV containment; (16) audits and certifies facilities as a PV-essential facility (PEF) according to the WHO Containment Certification Scheme; (17) seeks WHO endorsement for U.S. PEF certification applications; (18) provides annual training and assists U.S. facilities working with PV materials to develop containment programs; (19) supports the dissemination of PV-containment information to Federal, state, and local agencies, private organizations, and other national and international agencies; (20) develops and distributes informational products for educational and promotional activities related to PV containment; (21) provides technical assistance and consultations to other countries in establishing and implementing PV containment and national inventory programs; (22) plans, directs, and supports research focused on PV containment-related issues; (23) investigates exposures and root cause analysis of a containment breach; and (24) collaborates with other CDC entities, HHS agencies, academic institutions, private organizations, Ministries of Health, WHO Headquarters and regional WHO offices, as appropriate.

Federal Select Agent Program Operations Branch (CADCB). (1) processes entity applications for registration, awarding entities certification, processing entity amendments to their registration, performing inspections at regulated entities; (2) prepares reports of inspections and conducts follow-up on noted deficiencies; (3) receives reports of the theft, loss, or release of select agents or toxins; (4) processes requests for transfers of select agents and toxins; (5) processes reports of select agents or toxins identified through diagnosis, verification or proficiency testing; (6) provides expert advice to entities on compliance with the select agent regulations; (7) serves as a liaison with the United States Department of Agriculture Animal and Plant Health Inspection Service Select Agent Regulatory Program on operational issues; and (8) performs assessment of foreign select agent laboratories in accordance with inter-agency agreements.

Import Permit Program Operations Branch (CADCC). (1) processes applications for permits to import infectious biological agents that could cause disease in humans to prevent their introduction and spread into the United States; (2) performs inspections to ensure facilities receiving permits have appropriate biosafety measures in place to work safely with the imported materials; (3) prepares reports of inspections and conducts follow-up on noted deficiencies; (4) provides guidance and support to assist the regulated community in meeting the requirements of the import permit regulations; (5) collaborates with Innovation and Information Technology Branch on the development and revisions for improvement with the electronic Import Permit Program information system; and (6) collaborates with CDC's Division of Global Migration Health (which is charged with preventing the introduction, transmission, or spread of communicable diseases from foreign countries into the United States) and the U.S. Customs and Border Protection.

Biosafety, Science, Training and Expertise Branch (CADCE). (1) provides scientific, biosafety, biosecurity, and facilities consultation to the division and regulated community; (2) coordinates and supports the CDC Intragovernmental Select Agent and Toxin Technical Advisory Committee; (3) develops and implements training programs for the division and conducts trainings and outreach to increase knowledge of and compliance with the regulations and increase staff's ability to conduct scientific research, writing and publishing and improve the scientific basis for regulation; (4) develops, coordinates, and implements the DRSC research agenda and for the clearing of DRSC scientific manuscripts; (5) manages security risk assessment process with the Federal Bureau of Investigations (FBI) to provide authorization for individuals to access select agents and toxins; (6) assists the FBI with criminal investigations; (7) coordinates division emergency response activities; and (8) provides expert advice to entities on compliance with the select agent regulations.

Delete item 6 in the Division of Emergency Operations (CADD) functional statement and insert the following:

(6) coordinates logistics, staffing, and other emergency management functions support for cross-CIO responses.

Delete item 2 in the Resource Support Branch (CADDB) functional statement and insert the following:

(2) directs the Resource Support Section within the EOC during CDC emergency responses.

Delete items 3 and 8 in the Operations Branch (CADDC) functional statement and insert the following:

(3) directs the Operations Section within the EOC during CDC emergency responses.

(8) manages the EOC facility, including its processes and components (e.g., audiovisual equipment and communications tools) to maintain its operational capability, including when COOP plans are implemented.

Delete items 2 and 3 in the Plans, Exercise, and Evaluation Branch (CADDD) functional statement and insert the following:

(2) directs the Planning Section within the EOC during CDC emergency responses. (3) develops, publishes, and maintains contingency plans, incident action plans, transition plans, situation reports, and evaluation products, including through the Planning Section.

Delete item 3 in the functional statement Emergency Management Training and Capacity Development Branch (CADDE) and insert the following:

(3) develops and delivers training curricula for emergency responders and response leadership within CDC.

IV. Under Part C, Section C-B, Organization and functions, add the following functional statements:

After the Field Assignments Branch (CADBB) within the Division of State and Local Readiness (CADB), insert the following:

Grants Management and Fiscal Strategy Branch (CADBC). (1) administers the pre-award, award, post-award, and closeout phases of the Public Health Emergency Preparedness (PHEP) and Crisis Response Cooperative Agreement (CRCA), in coordination with relevant stakeholders; (2) monitors state, tribal, local, and territorial (STLT) progress on programmatic activities of the PHEP and CRCA, as applicable, to assure requirements are achieved; (3) provides technical assistance related to grants management functions and fiscal strategy to STLT partners; (4) provides grants management and fiscal strategy expertise to agency stakeholders related to public health emergency preparedness and response; (5) identifies, develops/coordinates the development and implementation (as applicable) of innovative operational solutions for agency and STLT administrative and fiscal challenges related to preparedness and response activities; and (6) maintains and operationalizes the CRCA to rapidly deliver response funding to STLTs.

Jurisdictional Readiness and Response Support Branch (CADBD). (1) provides direct consultation, technical assistance, and training to STLT health departments in management and operation of activities to support public health preparedness, response, and recovery; (2) provides assistance to STLT governments and public health agencies to prepare for effective responses to large scale public health events; (3) serves as a primary conduit for STLT engagements with CDC during public health emergency responses via the Health Department Liaison Officers; (4) serves as the primary cadre of emergency responders from the division, supporting various components of program, center, and agency-led activations as a critical link with STLT partners; (5) provides subject matter expertise related to STLT coordination for preparedness and response planning; and (6) collaborates within the agency, interagency, and jurisdictional partners during exercises and responses.

Capacity Building and Technical Assistance Development Branch (CADBE). (1) ensures high-quality technical assistance is available to STLT jurisdictions on preparedness capabilities and the Response Readiness Framework, in collaboration with other partners; (2) develops or coordinates the development of tools and facilitates plans to address identified gaps in jurisdictional operational readiness; (3) improves the delivery of technical assistance to public health in coordination with other branches of the division; (4) maintains a training program organized around the Response Readiness Framework to improve internal and STLT readiness and response performance; (5) develops and implements various communities of practice across critical readiness and response-related topics, and (6) maintains an information sharing platform to post resources and facilitate the sharing of readiness and response-related best practices across CDC and jurisdictions.

After item 9 of the Division of Regulatory Science and Compliance (CADC) functional statement, insert the following: (10) leads in developing and executing a national poliovirus (PV) containment program and minimizes the risk of PV release through effective implementation and oversight of the global PV containment plan in the United States and (11) provides staff and operational and scientific expertise, including through the EOC, for public health emergency responses and exercises.

After the Division of Emergency Operations (CADD), insert the following:

Division of Readiness and Response Science (CADE). (1) develops and implements the science of readiness and response, builds scientific expertise to address health disparities and community mitigation, evaluates the STLT readiness and response, and informs a broader framework for evaluating CDC's and partners' readiness state; (2) advances and coordinates CDC's readiness and response science agenda in partnership with CDC CIOs and partners (STLTs, non-governmental organizations (NGOs), healthcare providers, academia, etc.); (3) fosters innovation and advances and coordinates CDC readiness and response to public health emergencies by building and enhancing epidemiology, surveillance, health equity science, social and behavioral science, community mitigation, and utilization, safety and effectiveness of countermeasures in partnership with CDC CIOs; (4) engages with various CDC leadership and partners to develop and maintain partnerships, conduct research projects, maintain mutual awareness of activities, and advocate for evidence-informed response practices that works toward health equity; (5) provides subject matter expertise, recommendations and guidelines, and a scientific basis for CDC and national epidemiologic response protocols and surveillance methods; (6) evaluates the effectiveness of public health interventions as a key readiness activity to shorten the timeline for implementation of a response during an emergency; (7) utilizes best practices to collect, analyze, and interpret data and disseminate scientific information for internal and external partners to make actionable decisions; (8) socializes, implements, and reinforces established health equity principles and strategies, in partnership with CDC's Office of Health Equity; (9) establishes an agency-wide strategy and coordinates activities across CDC CIOs on CDC's role in community mitigation and social and behavioral science; (10) leads management and maintenance of public health emergency preparedness, readiness, and response information gathering, analysis, and sharing to support response decision making; (11) supports and coordinates special projects ; and (12) provides staff and scientific expertise, including through the EOC, for public health emergency responses and exercises.

Office of the Director (CADE1). (1) provides leadership and guidance that supports, advances, and creates the development, research, and implementation infrastructure of readiness and response science; (2) coordinates the development of policy and guidelines for scientific readiness and response research and publication as well as for evaluation of emergency preparedness programs; (3) creates standards for implementation of readiness and response science to improve emergency identification, response, and mitigation; (4) provides agency-wide communication pertaining to evolving scientific readiness and response research and publications; (5) communicates and coordinates with STLT jurisdictions on state and local preparedness and response issues to advance readiness and response research; (6) develops and maintains effective partnerships with national partners and preparedness and response partners to communicate scientific evidence; (7) develops and maintains effective partnerships and engagements with ORR staff and other CDC CIOs to establish and maintain mutual awareness of activities and promote scientific capability, capacity and quality; (8) develops and maintains effective partnerships and engagements with ORR staff, other CDC CIOs, the academic community, Federal agencies, and non-government research and practitioner organizations to establish and maintain mutual awareness of activities and advocate for evidence-informed practice related to populations with access and functional needs and activities; (9) provides management and information resources direction and support to Division of Readiness and Response Science branches; (10) establishes and maintains Centers for Public Health Preparedness and Response that may include institutions of higher education, including accredited schools of public health, or other nonprofit private entities to identify, translate, and disseminate promising research findings or strategies into evidence-informed or evidence-based practices; (11) evaluates readiness and response of CDC, intramural funding recipients (e.g., Strategic Capacity Building and Innovation Program and external funding recipients including STLT partners/jurisdictions, and NGO partners by developing strategies, developing performance metrics on readiness and response efforts, assessing performance, and specifically holding grantees accountable to meet metrics; (12) develops draft protocols, data collection instruments, and standards for rapid data collection in collaboration with STLT partners to inform guidance and critical public health action; (13) provides project management, IT, and other wrap around support for special projects such as the Response Ready Enterprise Data Integration (RREDI) platform; (14) fosters innovation to advance science, mitigate risks, address current and future gaps, and inform partnerships and investments; (15) provides development, implementation, support and technical assistance regarding policies and procedures for research funding proposals and announcements, technical review, award selections, and award administration/management to sponsoring divisions, applicants, and awardees; and (16) assists in the development and maintenance of investigational new drug protocols and emergency use authorizations for vaccinations, treatments, and prophylaxis of selected bioterrorist agents.

Community-Based Solutions and Health Equity Branch (CADEB). (1) addresses health equity readiness and leads agency-wide social and behavioral science efforts (e.g., data, analytics, scientific guidance), community-based readiness, and response mitigation activities and engagements (e.g., in school settings, in correctional facilities, for populations experiencing homelessness and housing insecurity); (2) proposes, develops, conducts research projects, and addresses the access- and functional-needs of populations at higher risk for adverse effects (e.g., youth, populations experiencing incarceration, and populations experiencing homelessness and housing insecurity) including death, disability, and disease during emergency settings/responses through ORR funded research solicitations; (3) maintains a network of population-specific subject matter experts across CDC, fostering a culture that addresses health equity issues for readiness and response in domestic and international settings; (4) coordinates and supports readiness and response efforts and health equity principles and strategy with CDC's Office of Health Equity; (5) provides staff and scientific expertise, including through the EOC, for public health emergency responses and exercises, and supports the stand up and coordination of the Chief Health Equity Officer structure and functions during such activities; (6) provides technical assistance and expertise in surveillance, epidemiology, and behavioral research to inform guidelines and recommendations for schools, correctional and detention facilities, people experiencing homelessness, and other populations that are disproportionately affected in a response; (7) oversees and coordinates the translation of scientific findings for healthcare providers, public health professionals, and the public, on pediatric preparedness and response matters; (8) develops and disseminates guidelines and tools to help schools and other societal institutions apply research synthesis findings to reduce priority health risks among youth; (9) plans, implements, provides technical assistance, and evaluates public health readiness and response efforts in emergency and post-emergency settings; and (10) coordinates efforts with appropriate Federal advisory committees as necessary.

Response Analytics, Decision Support, and Surveillance Branch (CADEC). (1) provides CDC (and partners, as appropriate) reliable, comprehensive, and high-quality information (e.g., event-based surveillance) on international disease outbreaks and other health threats as they emerge and evolve; (2) leads, in partnership with Center for Forecasting and Outbreak Analytics, the management and maintenance of public health emergency preparedness, readiness, and response information gathering, analysis, and sharing through knowledge management and scalable processes that support response decision making; (3) provides readiness and response technical assistance to international partners via deployments, data calls, etc.; (4) establishes public health emergency preparedness vocabulary and information exchange standards to meet the reporting and information sharing requirements of cross-jurisdictional partners; (5) compiles, correlates, supports response and CDC leadership decision-making; (6) provides coordination, planning, and development support for data collection, management, and production of analytics and geospatial data, including GIS/mapping; (7) provides informatics, data management, event-based surveillance and reporting technical assistance and support to external Federal, STLT, and international partners; (8) conducts and supports data management, information exchange, and risk communication among Federal, STLT and international partners; (9) supports the development, maintenance, and implementation of policies related to public health emergency situational awareness, data analytics and visualization, and knowledge management activities; and (10) leads special projects such as the RREDI platform.

Public Health Readiness and Response Evaluation Branch (CADED). (1) informs and supports the development and execution of an agency process to evaluate CDC's performance in reaching readiness and response goals; (2) integrates evaluation approaches with ongoing, routine practices that involve engaging all partners, not just evaluation experts; (3) develops strategy to evaluate achievement of readiness and response objectives across relevant STLT funding mechanisms; (4) coordinates and communicates with STLT units to efficiently evaluate readiness and response effectiveness across programs; (5) assesses the effectiveness of the Public Health Emergency Preparedness Cooperative Agreement via performance measurement and evaluation; (6) develops and coordinates a strategy to measure and report on jurisdictional operational readiness, in consultation with Division of State and Local Readiness; (7) provides analytic support and evaluation expertise to ORR offices, center, and divisions; and (8) fosters innovation and efficiency in evaluation and research through collaboration with partners.

V. Under Part C, Section C-B, Organization and Functions, the following organizational unit is deleted in its entirety:

• Office of Communications (CBC14)

• Office of Policy, Planning, and Evaluation (CBC16)

• US National Authority for Containment of Poliovirus (CBC19)

• Program Implementation Office (CBCBB)

• Evaluation and Analysis Branch (CBCBC)

• Emergency Risk Communication Branch (CBCDB)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14702 Filed 7-11-23; 8:45 am]

BILLING CODE 4163-18-P